DEPARTMENT OF ENERGY

Federal Energy Regulatory Commission

Privacy Act of 1974; Systems of Records

AGENCY: Federal Energy Regulatory Commission (FERC), Department of Energy (DOE).

ACTION: Notice of modified systems of records.

SUMMARY: In accordance with the Privacy Act of 1974, as amended, the Federal Energy Regulatory Commission (FERC) is modifying the systems of records listed in this notice to incorporate a new routine use related to releasing records to the Department of the Treasury pursuant to Executive Order No. 14249, Protecting America's Bank Account Against Fraud, Waste, and Abuse (March 25, 2025) and OMB Memo M-25-32, Preventing Improper Payment and Protecting Privacy Through Do Not Pay.

DATES: Comments must be received no later than 30 days after the date of publication in the Federal Register. If no public comment is received during this period or unless otherwise published in the Federal Register by FERC, the modified systems of records will become effective a minimum of 30 days after the date of publication in the Federal Register. If FERC receives public comments, FERC shall review the comments to determine whether any changes to the notice are necessary.

ADDRESSES: Comments may be submitted in writing to Federal Energy Regulatory Commission, 888 First Street NE, Washington, DC 20426 or electronically to privacy@ferc.gov. Comments should include that they are submitted in response to “Routine Use pursuant to Executive Order No. 14249.”

FOR FURTHER INFORMATION CONTACT: Mittal Desai, Chief Information Officer & Senior Agency Official for Privacy, Office of the Executive Director, Federal Energy Regulatory Commission, 888 First Street NE, Washington, DC 20426, privacy@ferc.gov.

SUPPLEMENTARY INFORMATION: On March 25, 2025, the President signed Executive Order No. 14249, Protecting America's Bank Account Against Fraud, Waste, and Abuse, which directed agency heads to, among other things, review and modify, as applicable, relevant system of records notices (SORN) to include a new routine use that allows disclosure of records to the Department of the Treasury “for the purposes of identifying, preventing, or recouping fraud and improper payments, to the extent permissible by law.” As a result, FERC is proposing the addition of a new routine use. Unless this or other published notice expressly provides otherwise, this new routine use applies to the FERC Privacy Act systems of records listed in this notice. This routine use supplements but does not replace any routine use that is separately published in the specific individual SORN. The proposed routine use is compatible with the purpose for which each of the records or information was collected. FERC will update each SORN listed in this notice to include the routine use as required by the Executive Order.

SYSTEM NAME AND NUMBER:

The systems of records to be modified by including the new routine use described in this notice are set forth in the table below.

SORN No. | SORN Name | Federal Register citation
FERC-16 | Commission Death Case Files | 65 FR 21744.
FERC-17 | Commission Disability Retirement Files | 65 FR 21744.
FERC-18 | Commission Discontinued Service Retirements File | 65 FR 21745.
FERC-21 | Commission Training Records | 89 FR 87363.
FERC-22 | Commission's Employees Indebtedness Cases Files | 89 FR 9843.
FERC-23 | Commission Leave Without Pay Request File | 65 FR 21747.
FERC-25 | Commission Office of Workers Compensation (OWCP) Claims File | 65 FR 21748.
FERC-28 | Commission Restoration of Annual Leave Request Files | 90 FR 8292.
FERC-29 | Commission Unemployment Compensation File | 65 FR 21750.
FERC-31 | Commission Parking Records | 89 FR 86798.
FERC-32 | Commission Fitness Center Records | 65 FR 21751.
FERC-35 | Commission Security Investigations Records | 88 FR 22023.
FERC-37 | Commission Voluntary Leave Transfer Files | 65 FR 21753.
FERC-41 | FERC Transit Subsidy (TSP) Records | 90 FR 8020.
FERC-43 | Commission Travel Records | 65 FR 21756.
FERC-46 | Commission Freedom of Information Act and Privacy Act Request Files | 88 FR 53875.
FERC-56 | Financial Management Records | 89 FR 44970.
FERC-57 | Federal Personnel and Payroll Records | 89 FR 95204.
FERC-58 | Critical Energy/Electric Infrastructure Information (CEII) Records | 89 FR 13069.
FERC-59 | Enforcement Investigation Records | 79 FR 17531.
FERC-60 | Hotline Records | 79 FR 17532.

SECURITY CLASSIFICATION:

Unclassified.

SYSTEM LOCATION:

The system location is identified in each individual notice included in the table above.

SYSTEM MANAGER(S):

The applicable system manager(s) is identified in each individual notice included in the table above.

AUTHORITY FOR MAINTENANCE OF THE SYSTEM:

The applicable authority is identified in each individual notice included in the table above.

PURPOSE(S) OF THE SYSTEM:

The purpose of the system is identified in each individual notice included in the table above.

CATEGORIES OF INDIVIDUALS COVERED BY THE SYSTEM:

The categories of individuals covered by the system is identified in each individual notice included in the table above.

CATEGORIES OF RECORDS IN THE SYSTEM:

The categories of records in the system is identified in each individual notice included in the table above.

RECORD SOURCE CATEGORIES:

The record source categories is identified in each individual notice in the table above.

ROUTINE USES OF RECORDS MAINTAINED IN THE SYSTEM, INCLUDING CATEGORIES OF USERS AND THE PURPOSES OF SUCH USES:

In addition to those disclosures generally permitted under 5 U.S.C. 552a(b) of the Privacy Act and for the routine use are provided therein, information maintained in these systems may be disclosed to authorized entities outside FERC for purposes determined to be relevant and necessary as a routine use pursuant to 5 U.S.C. 552a(b)(3) as follows:

• To the U.S. Department of the Treasury when disclosure of the information is relevant to review payment and award eligibility through the Do Not Pay Working System for the purposes of identifying, preventing, or recouping improper payments to an applicant for, or recipient of, Federal funds, including funds disbursed by a state (meaning a state of the United States, the District of Columbia, a territory or possession of the United States, or a federally recognized Indian tribe) in a state-administered, federally funded program.

As this new routine use is an additional routine use, please refer to the specific individual SORN for other routine uses, which remain unchanged by this notice, and for additional governing elements, which also remain unchanged by this notice.

POLICIES AND PRACTICES FOR STORAGE OF RECORDS:

The policies and practices of storage of records is identified in each individual notice included in the table above.

POLICIES AND PRACTICES FOR THE RETENTION AND DISPOSAL OF RECORDS:

The policies and practices for the retention and disposal of records is identified in each individual notice included in the table above.

ADMINISTRATIVE, TECHNICAL, AND PHYSICAL SAFEGUARDS:

See Policies and Practices for Storage of Records is identified in each individual notice included in the table above.

CONTESTING RECORD PROCEDURE:

The contesting record procedure is identified in each individual notice included in the table above.

NOTIFICATION PROCEDURES:

The notification procedure is identified in each individual notice included in the table above.

EXEMPTIONS PROMULGATED FOR THE SYSTEM:

The exemptions promulgated for the system is identified in each individual notice included in the table above.

HISTORY:

For the history of each notice, please refer to the individual notice listed in the table above.

Dated: February 4, 2026.
Debbie-Anne A. Reese,
Secretary.

[FR Doc. 2026-02520 Filed 2-6-26; 8:45 am]

BILLING CODE 6717-01-P